ENVIRONMENTAL PROTECTION AGENCY

[EPA-HQ-OPPT-2003-0004; FRL-8115-6]

Access to Confidential Business Information by Lockheed-Martin Services, Inc.

AGENCY: Environmental Protection Agency (EPA).

ACTION: Notice.

SUMMARY: This document supersedes the January 31, 2007 (72 FR 4502) (FRL-8112-1) Federal Register notice authorizing access to Confidential Business Information (CBI) by EPA's contractor, Lockheed-Martin Services, Inc. of Cherry Hill, NJ, and its subcontractors. This action corrects an administrative error in the date of access to CBI by Lockheed-Martin Services, Inc. of Cherry Hill, NJ, and its subcontractors. EPA by this document authorizes its contractor, Lockheed-Martin Services, Inc. of Cherry Hill, NJ, and its subcontractors, to access information which has been submitted to EPA under sections 4, 5, 6, 7, 8, 12, and 13 of the Toxic Substances Control Act (TSCA). Some of the information may be claimed or determined to be CBI.

DATES: Access to the confidential data will occur no sooner than February 15, 2007.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Pamela Moseley, Information Management Division (7407M), Office of Pollution Prevention and Toxics, Environmental Protection Agency, 1200 Pennsylvania Ave., NW., Washington, DC 20460-0001; telephone number: (202) 564-8956; fax number: (202) 564-8955; e-mail address: pamela.moseley@epa.gov.

SUPPLEMENTARY INFORMATION:

I. General Information

A. Does this Notice Apply to Me?

This action is directed to the public in general. This action may, however, be of interest to those persons who are or may be required to conduct testing of chemical substances under TSCA. Since other entities may also be interested, the Agency has not attempted to describe all the specific entities that may be affected by this action. If you have any questions regarding the applicability of this action to a particular entity, consult the technical person listed under FOR FURTHER INFORMATION CONTACT.

B. How Can I Get Copies of this Document and Other Related Information?

1. Docket. EPA established a docket for this action under docket identification (ID) number EPA-HQ-OPPT-2003-0004. All documents in the docket are listed in the docket's index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, andsign the EPA visitor log. All visitor bags are processed through an X-ray machine and subject to search. Visitors will be provided an EPA/DC badge that must be visible at all times in the building and returned upon departure.

2. Electronic access. You may access this Federal Register document electronically through the EPA Internet under the “Federal Register” listings at http://www.epa.gov/fedrgstr.

II. What Action is the Agency Taking?

Under EPA contract number 68-W-04-005, contractor Lockheed-Martin Services, Inc. of 2339 Route 70 West, Floor 3W, Cherry Hill, NJ, and its subcontractors Bearing Point of 1676 International Dr., McLean, VA; Intervise of 12 South Summit Ave., Suite 100, Gaithersburg, MD; McDonald Bradley of 2250 Corporate Park Dr., Suite 500, Herndon, VA; and Subsidium of 115 Chester St., Front Royal, VA, will assist the Office of Pollution Prevention and Toxics (OPPT) in Management Systems architecture design, integration, testing, and development. They will also assist with project management, scheduling, and support of the Enterprise Content Management System (ECMS).

In accordance with 40 CFR 2.306(j), EPA has determined that under EPA contract number 68-W-04-005, Lockheed-Martin Services, Inc. and its subcontractors will require access to CBI submitted to EPA under sections 4, 5, 6, 7, 8, 12, and 13 of TSCA to perform successfully the duties specified under the contract. Lockheed-Martin Services, Inc. and its subcontractor personnel will be given access to information submitted to EPA under sections 4, 5, 6, 7, 8, 12, and 13 of TSCA. Some of the information may be claimed or determined to be CBI.

EPA is issuing this notice to inform all submitters of information under sections 4, 5, 6, 7, 8, 12, and 13 of TSCA that EPA may provide Lockheed-Martin Services, Inc. and its subcontractors access to these CBI materials on a need-to-know basis only. All access to TSCA CBI under this contract will take place at EPA Headquarters.

Lockheed-Martin Services, Inc. and its subcontractors will be authorized access to TSCA CBI at EPA Headquarters under the EPA TSCA CBI Protection Manual.

Clearance for access to TSCA CBI under this contract may continue until January 8, 2009, unless such access is extended.

Lockheed-Martin Services, Inc. and its subcontractors personnel will be required to sign nondisclosure agreements and will be briefed on appropriate security procedures before they are permitted access to TSCA CBI.

List of Subjects

Environmental protection, Confidential business information.

Dated: February 5, 2007.
Brion Cook,
Director, Information Management Division, Office of Pollution Prevention and Toxics.

[FR Doc. 07-587 Filed 2-6-07; 1:10 pm]

BILLING CODE 6560-50-S